DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08W-25A, Rockville, Maryland 20857; (301) 443-6593, or visit our website at: https://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2023, through December 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08W-25A, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Joanne Teixeira, Niagara Falls, New York, Court of Federal Claims No: 23-2057V

2. Jose Guzman, Boston, Massachusetts, Court of Federal Claims No: 23-2059V

3. Christian Robertson, Stockbridge, Georgia, Court of Federal Claims No: 23-2060V

4. Michelle Russell on behalf of Barbara Plummer, Deceased, Grove City, Ohio, Court of Federal Claims No: 23-2064V

5. Kyra Albanese on behalf of L. A., Niagara Falls, New York, Court of Federal Claims No: 23-2065V

6. Mark Johnson, Riverside, California, Court of Federal Claims No: 23-2069V

7. Francesca Ciofalo, New York, New York, Court of Federal Claims No: 23-2070V

8. Samantha Denby, Seattle, Washington, Court of Federal Claims No: 23-2071V

9. Catrina Smith, Nacogdoches, Texas, Court of Federal Claims No: 23-2073V

10. Ellen Einhorn, Boston, Massachusetts, Court of Federal Claims No: 23-2074V

11. Bradley Woodward, Boston, Massachusetts, Court of Federal Claims No: 23-2075V

12. Samantha Sheets on behalf of K. H., Gallipolis, Ohio, Court of Federal Claims No: 23-2078V

13. Michelle Johnston, Edmond, Oklahoma, Court of Federal Claims No: 23-2079V

14. Joshua Dunn, Miami, Florida, Court of Federal Claims No: 23-2082V

15. Alan Thielemann, Alpharetta, Georgia, Court of Federal Claims No: 23-2083V

16. Tracey Lavin, Boston, Massachusetts, Court of Federal Claims No: 23-2084V

17. Steven Dimedio, Dresher, Pennsylvania, Court of Federal Claims No: 23-2085V

18. Jeffrey P. Abrahams, Gig Harbor, Washington, Court of Federal Claims No: 23-2090V

19. Carolyn White, Weston, Florida, Court of Federal Claims No: 23-2091V

20. Kate Stephens, Richmond, Virginia, Court of Federal Claims No: 23-2092V

21. Virginia Halton, Boston, Massachusetts, Court of Federal Claims No: 23-2093V

22. Angelina Perrotta, Arlington Heights, Illinois, Court of Federal Claims No: 23-2096V

23. Fred S. Alba, Jr., Park Ridge, Illinois, Court of Federal Claims No: 23-2098V

24. Cory Jubinville and Olga Jubinville on behalf of W. J., Eastchester, New York, Court of Federal Claims No: 23-2100V

25. Brian Citizen, Sarasota, Florida, Court of Federal Claims No: 23-2101V

26. Lauren Horan, Wellesley, Massachusetts, Court of Federal Claims No: 23-2102V

27. Shiori Yodono, Chicago, Illinois, Court of Federal Claims No: 23-2103V

28. Molly Converse, San Antonio, Texas, Court of Federal Claims No: 23-2104V

29. Gary Hayes, Jacksonville, Arkansas, Court of Federal Claims No: 23-2105V

30. Deborah Martin, Boston, Massachusetts, Court of Federal Claims No: 23-2106V

31. Cherrie Brower, New Florence, Missouri, Court of Federal Claims No: 23-2107V

32. Jeannine Forsyth, Gordonville, Pennsylvania, Court of Federal Claims No: 23-2108V

33. Barbara Glotzbecker, Gansevoort, New York, Court of Federal Claims No: 23-2109V

34. Amy Jean, Lake Oswego, Oregon, Court of Federal Claims No: 23-2110V

35. Carolyn Mead, Lakeport, California, Court of Federal Claims No: 23-2111V

36. Yuze Shao, New Orleans, Louisiana, Court of Federal Claims No: 23-2115V

37. Esmerida Perez on behalf of M. P., Shawnee Mission, Kansas, Court of Federal Claims No: 23-2118V

38. John P. Lynch, Redondo Beach, California, Court of Federal Claims No: 23-2119V

39. Yuanith Juarez, Coral Gables, Florida, Court of Federal Claims No: 23-2120V

40. Angela Ferrante, Dresher, Pennsylvania, Court of Federal Claims No: 23-2123V

41. Stephanie Wilson, Yarmouth, Maine, Court of Federal Claims No: 23-2124V

42. Sonia Garza, Garland, Texas, Court of Federal Claims No: 23-2125V

43. Tyler Waltman, Dresher, Pennsylvania, Court of Federal Claims No: 23-2126V

44. Chelsea Serra, Atlanta, Georgia, Court of Federal Claims No: 23-2129V

45. Kimberly Cole, Newport Beach, California, Court of Federal Claims No: 23-2130V

46. Betty Duncan, Charlottesville, Virginia, Court of Federal Claims No: 23-2131V

47. Trina Randall on behalf of C. B., Wylie, Texas, Court of Federal Claims No: 23-2132V

48. Cynthia McCoy, Sacramento, California, Court of Federal Claims No: 23-2133V

49. Christa Kekahuna on behalf of K. K., Anthem Hills, Nevada, Court of Federal Claims No: 23-2134V

50. Dianne Benjamin, University City, Missouri, Court of Federal Claims No: 23-2137V

51. Lowell Parsley, Boston, Massachusetts, Court of Federal Claims No: 23-2138V

52. Kristie Houle, Boston, Massachusetts, Court of Federal Claims No: 23-2139V

53. Danielle Bailey on behalf of C. B., Raleigh, North Carolina, Court of Federal Claims No: 23-2140V

54. Kay Spacht, Tyrone, Pennsylvania, Court of Federal Claims No: 23-2141V

55. Norine Busser, Chicago, Illinois, Court of Federal Claims No: 23-2142V

56. Terri Fischer, McConnelsville, Ohio, Court of Federal Claims No: 23-2143V

57. Amira Watson, Chula Vista, California, Court of Federal Claims No: 23-2144V

58. Mark Gallo, New Lenox, Illinois, Court of Federal Claims No: 23-2145V

59. Angela Ayala-Valdez, San Jose, California, Court of Federal Claims No: 23-2148V

60. Julie Pace, Monroe, Louisiana, Court of Federal Claims No: 23-2149V

61. Raymond Roberts, Las Vegas, Nevada, Court of Federal Claims No: 23-2150V

62. Shawanda O'Brien, Washington, District of Columbia, Court of Federal Claims No: 23-2151V

63. Blanca Chavarria, Palm Coast, Florida, Court of Federal Claims No: 23-2152V

64. Diana Bair, New Castle, Pennsylvania, Court of Federal Claims No: 23-2154V

65. Ariana Martinez, Sacramento, California, Court of Federal Claims No: 23-2155V

66. Scott O'Keefe, Seattle, Washington, Court of Federal Claims No: 23-2156V

67. Dona Basiege, Philadelphia, Pennsylvania, Court of Federal Claims No: 23-2159V

68. Caitlin Yohannes, Savage, Minnesota, Court of Federal Claims No: 23-2160V

69. Zahraa Alhroub on behalf of N. A., Phoenix, Arizona, Court of Federal Claims No: 23-2161V

70. Ryley White, Kalamazoo, Michigan, Court of Federal Claims No: 23-2165V

71. Amber Linck, Los Angeles, California, Court of Federal Claims No: 23-2166V

72. Chantal Meyers, Georgetown, Delaware, Court of Federal Claims No: 23-2167V

73. Chloe Lumpkin, Kingfisher, Oklahoma, Court of Federal Claims No: 23-2170V

74. Candace Reynoso, Charlotte, North Carolina, Court of Federal Claims No: 23-2171V

75. Stacy Smith, New Castle, Pennsylvania, Court of Federal Claims No: 23-2173V

76. Russell Johnson, Rialto, California, Court of Federal Claims No: 23-2174V

77. Steve M. Steinhour, Tacoma, Washington, Court of Federal Claims No: 23-2175V

78. Indira Sukhraj, Winter Haven, Florida, Court of Federal Claims No: 23-2176V

79. Timothy Cestaro and Flavia Cestaro on behalf of J. C., Phoenix, Arizona, Court of Federal Claims No: 23-2178V

80. Vickie Beard, Crofton, Maryland, Court of Federal Claims No: 23-2179V

81. Kianna Nassersharif, Boston, Massachusetts, Court of Federal Claims No: 23-2190V

82. William Jeffery, Boston, Massachusetts, Court of Federal Claims No: 23-2192V

83. Lori Miller, Buffalo, Minnesota, Court of Federal Claims No: 23-2193V

84. Sharon Brown, Chicago, Illinois, Court of Federal Claims No: 23-2195V

85. Angelica Iris Flores Quintero, San Francisco, California, Court of Federal Claims No: 23-2198V

86. Nash James Devita, Casa Grande, Arizona, Court of Federal Claims No: 23-2199V

87. John McCann, Los Angeles, California, Court of Federal Claims No: 23-2200V

[FR Doc. 2024-01406 Filed 1-24-24; 8:45 am]

BILLING CODE 4165-15-P